DEPARTMENT OF THE INTERIOR

DEPARTMENT OF AGRICULTURE

[CA 668-05-1610-PG-083A]

Monument Advisory Committee Meeting Schedule

AGENCY: Bureau of Land Management, U.S. Department of the Interior; United States Forest Service, U.S. Department of Agriculture.

ACTION: Notice of meetings for FY05.

SUMMARY: The Bureau of Land Management (BLM) and United States Forest Service (USFS) announce the schedule of meetings for the Advisory Committee to the Santa Rosa and San Jacinto Mountains National Monument (hereinafter referred to as National Monument). The meetings will be held on the following dates:

• Saturday, February 5, 2005.

• Saturday, June 4, 2005.

• Saturday, October 1, 2005.

The meetings will be held in the Palm Desert City Hall Council Chambers, located at 73-510 Fred Waring Drive, Palm Desert, California 92260. The meetings take place from 9 a.m. until 12 p.m. Meeting agendas will be developed and available to the public prior to meeting dates. Agendas will be located through the Bureau of Land Management, Palm Springs-South Coast Field Office Web Page linking to the Santa Rosa San Jacinto Mountains National Monument home page at http://www.ca.blm.gov/palmsprings/santarosa /santa_ rosa_national_monument.html.

The subject matter of each meeting will focus on the implementation of the Santa Rosa and San Jacinto Mountains National Monument Management Plan. There will be a half hour at each meeting dedicated to public comment and input, beginning at 11 a.m.

Speakers wishing to comment publicly should sign-in on the sign up sheet, which will be located at the meeting room on the day of the meeting. Speakers making comments to the Advisory Committee are requested to provide a written copy of their statement for the record.

The Monument Advisory Committee (MAC) is a committee of citizens appointed to provide advice to the Secretary of the Interior and Secretary of Agriculture, with respect to the implementation of the National Monument Management Plan as required by the Santa Rosa and San Jacinto Mountains National Monument Act of 2000 (16 U.S.C. 106-351). The act authorized establishment of the MAC with representative members from State and local jurisdictions, the Agua Caliente Band of Cahuilla Indians, a natural science expert, local conservation organization, local developer or building organization, the Winter Park Authority, and a representative from the Pinyon Community Council.

All of the meetings are open to the public with attendance limited only by the space available. Individuals who plan to attend and need special assistance such as sign language interpretations, or other reasonable accommodations should notify the contact person listed below two (2) weeks in advance of the meeting. Persons wishing to make public comment will need to sign up at the meeting location.

DATES: February 5, 2005; June 4, 2005; October 1, 2005. All meetings will take place from 9 a.m. to 12 p.m. (noon) with a morning public comment period beginning at 11 a.m.

ADDRESSES: The meetings are held in the Council Chambers of the Palm Desert City Hall, 73-510 Fred Waring Drive, Palm Desert, California 92260.

FOR FURTHER INFORMATION CONTACT: Written comments should be sent to the Santa Rosa San Jacinto Mountains National Monument Writer-Editor, in care of the Bureau of Land Management, P.O. Box 581260, North Palm Springs, CA 92258; by fax at (760) 251-4899; or e-mail at ca_srsj_nm@ca.blm.gov.

Additional information may be located on the National Monument Home Page at http://www.ca.blm.gov/palmsprings/santarosa/santa_rosa_ national_ monument.html.

Documents pertinent to this notice, including comments with the names and addresses of respondents, will be available for public review at the Palm Springs-South Coast Field Office located at 690 W. Garnet Avenue, North Palm Springs, California, during regular business hours 8 a.m. to 4:30 p.m., Monday through Friday, except for holidays.

SUPPLEMENTARY INFORMATION: The Santa Rosa and San Jacinto Mountains National Monument was established by Act of Congress and signed into law on October 24, 2000, by the President. The National Monument was established in order to preserve the nationally significant biological, cultural, recreational, geological, educational and scientific values found in the Santa Rosa and San Jacinto Mountains. This legislation established the first monument to be jointly managed by the Bureau of Land Management (BLM) and the U.S. Forest Service (USFS). The Santa Rosa and San Jacinto Mountains National Monument Act of 2000 affects only Federal lands and Federal interests located within the established boundaries.

The 272,000-acre National Monument encompasses 86,400 acres of Bureau of Land Management lands, 64,400 acres of Forest Service lands, 23,000 acres of Agua Caliente Band of Cahuilla Indians lands, 8,500 acres of California Department of Parks and Recreation lands, 35,800 acres of other State of California agencies lands, and 53,900 acres of private land.

The BLM and the Forest Service jointly manage all Federal lands in the National Monument in coordination with the Agua Caliente Band of Cahuilla Indians, other Federal Agencies, State agencies and local governments.

All committee and subcommittee meetings, including field examinations, are open to the public, including representatives of the media. Any organization, association, or individual may file a statement with, or appear before the committee and/or its subcommittees regarding topics on a meeting agenda.

Dated: November 19, 2004.
Gail Acheson,
Bureau of Land Management, Palm Springs-South Coast Field Office Manager.
Dated: November 18, 2004.
Danella George,
Santa Rosa & San Jacinto Mountains, National Monument Manager.
Dated: November 17, 2004.
Laurie Rosenthal,
District Ranger, San Jacinto Ranger District, San Bernardino National Forest.

[FR Doc. 04-26544 Filed 12-1-04; 8:45 am]

BILLING CODE 4310-40-P; 3410-34-P